NUCLEAR REGULATORY COMMISSION

[Docket No. 030-01176]

Consideration of License Amendment Request to University of Wyoming and Opportunity for a Hearing

AGENCY: Nuclear Regulatory Commission.

ACTION: Notice of consideration of amendment request and opportunity for a hearing.

SUMMARY: The U.S. Nuclear Regulatory Commission is considering issuance of a license amendment to Materials License No. 49-09955-10, issued to the University of Wyoming, to release for unrestricted use two burial sites located near Laramie, Wyoming, as requested in the licensee's revised decommissioning plan dated May 30, 2001.

FOR FURTHER INFORMATION CONTACT: Blair Spitzberg, Chief, Fuel Cycle Decommissioning Branch (FCDB) at (817) 860-8191 or Robert Evans, FCDB at (817) 860-8234.

SUPPLEMENTARY INFORMATION: The University of Wyoming currently possesses radioactive material under a license of broad scope. The licensee uses the material for research and development, academic instruction, and animal studies. On May 30, 2001, the licensee submitted a revised decommissioning plan (DP) to the NRC requesting release of two burial sites previously used by the University of Wyoming during 1952-1985. The licensee was previously authorized to dispose of radioactive material by burial in accordance with 10 CFR 20.304 and 20.302. By 1981, 10 CFR 20.304 had been rescinded by the NRC, so the licensee then conducted burials in accordance with 10 CFR 20.302. During 1985, the NRC rejected the licensee's request to continue to dispose of radioactive material by burial in accordance with 10 CFR 20.302. The licensee now requests that the two burial sites be left in place and the sites released for unrestricted use. The licensee's decision is based on dose modeling calculations conducted using the DandD computer program. The licensee concluded that the annual dose rate for the Quarry burial site is 2.74 millirem per year, and the annual dose rate for the Airport burial site is 22.5 millirem per year. Both dose rates are below the 25 millirem per year dose limit specified in 10 CFR 20.1402. The licensee also claims that remediation of the two sites is not financially viable and is not ALARA (as low as reasonably achievable). As such, the licensee requests NRC approval to release the two sites for unrestricted use with no further decommissioning being conducted.

NRC Approval Process

Prior to approving the DP, NRC will have made findings required by the Atomic Energy Act of 1954, as amended, and NRC's regulations. The University of Wyoming burial sites fall under the Type IV decommissioning facility requirements. The final approval of the DP will be incorporated into the license as a license amendment. The review of the DP shall be supported by the development of an Environmental Assessment (EA), Finding of No Significant Impact (FONSI), and Safety Evaluation Report (SER) by the NRC staff. Facilities under Type IV decommissioning requirements will receive a confirmatory survey and a closeout inspection by the NRC. If the confirmatory survey results indicate that the licensee's evaluation of the radiological status of the site is statistically valid and meets NRC's criteria and NRC has determined that the Final Status Survey demonstrates that the site satisfies NRC requirements, the site is suitable for release from regulatory control. At the time of release of the site or termination of the license, a subsequent Federal Register notice will be published to announce the intent of the NRC Staff to release the site for unrestricted use or to terminate the license.

Documents

The revised DP submitted by the University of Wyoming to the NRC is available for public inspection from the Publicly Available Records (PARS) component of NRC's document system (ADAMS). ADAMS is accessible from the NRC web site at http://www.nrc.gov/NRC/ADAMS/index.html (the Public Electronic Reading Room). Assistance with the Public Electronic Reading Room may be obtained by calling (800) 397-4209.

Notice of Opportunity for Hearing

The NRC hereby provides notice that this is a proceeding on an application for amendment of a license falling within the scope of subpart L, “Informal Hearing Procedures for Adjudications in Materials and Operator Licensing Proceedings,” of NRC's rules and practice for domestic licensing proceedings in 10 CFR part 2. Pursuant to § 2.1205(a), any person whose interest may be affected by the proceeding may file a request for a hearing in accordance with § 2.1205(d). A request for a hearing must be filed within thirty (30) days of the date of publication of this Federal Register notice.

The request for a hearing must be filed with the Office of the Secretary either:

1. By delivery to the Rulemakings and Adjudications Staff of the Office of the Secretary at One White Flint North, 11555 Rockville Pike, Rockville, MD 20852-2738; or

2. By mail, telegram or facsimile addressed to the Secretary, U.S. Nuclear Regulatory Commission, Washington, DC 20555. Attention: Rulemakings and Adjudications Staff.

In addition to meeting other applicable requirements of 10 CFR Part 2 of the NRC's regulations, a request for a hearing filed by a person other than an applicant must describe in detail:

1. The interest of the requester in the proceeding;

2. How that interests may be affected by the results of the proceeding, including the reasons why the requestor should be permitted a hearing, with particular reference to the factors set out in § 2.1205(h);

3. The requester's area of concern about the licensing activity that is the subject matter of the proceeding; and

4. The circumstances establishing that the request for a hearing is timely in accordance with § 2.1205(d)—that is, filed within 30 days of the date of this notice.

In accordance with 10 CFR 2.1205(f), each request for a hearing must also be served, by delivering it personally or by mail, to:

1. The applicant, University of Wyoming, Environmental Health & Safety, 303 Merica Hall, PO Box 3413, Laramie, Wyoming 82071-3413; and

2. The NRC staff, by delivery to the General Counsel, One White Flint North, 11555 Rockville Pike, Rockville, MD 20852, or by mail, addressed to the General Counsel, U.S. Nuclear Regulatory Commission, Washington, DC 20555.

Dated at Arlington, Texas, this 20th day of September 2001.
For the Nuclear Regulatory Commission.
D. Blair Spitzberg,
Chief, Fuel Cycle Decommissioning Branch, Division of Nuclear Materials Safety, Region IV.

[FR Doc. 01-24337 Filed 9-27-01; 8:45 am]

BILLING CODE 7590-01-P